DEPARTMENT OF HEALTH AND HUMAN SERVICES

Office of the Secretary

[Document Identifier HHS-OS-20875-30D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for reinstating the use of the approved information collection assigned OMB control number 0990-0317, which expired on October 31, 2013. Prior to submitting the ICR to OMB, OS seeks comments from the public regarding the burden estimate, below, or any other aspect of the ICR.

DATES: Comments on the ICR must be received on or before December 16, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-20875-30D for reference.

Information Collection Request Title: HHS Supplemental Form to the SF-424 (HHS 5161-1)

OMB No.: 0990-0317.

Abstract: HHS is requesting clearance for reinstatement without change of the previously approved Checklist and Program Narrative used by the Substance Abuse and Mental Health Services Administration (SAMHSA) and former PHS agencies within HHS, including the Centers for Disease Control and Prevention (CDC) and the Health Resources and Services Administration (HRSA).

Need and Proposed Use of the Information: Each agency's financial assistance program evaluates the information provided by the applicants to select the ones most likely to meet program objectives and to determine that satisfactory progress is being made on funded projects.

Likely Respondents: CDC, SAMHSA, IHS, OS, FDA, and HRSA.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Forms | Number of respondents | Response per respondent | Average burden per response (in hours) | Total burden (in hours)
Program Narrative and Checklist (SAMHSA) | 2,121 | 1 | 4 | 8,484
Program Narrative and Checklist (CDC) | 59 | 6 | 24 | 8,496
Program Narrative and Checklist (HRSA) | 59 | 1 | 50 | 2,950
Total |  |  |  | 19,930

Darius Taylor,
Deputy, Information Collection Clearance Officer.

[FR Doc. 2013-27410 Filed 11-14-13; 8:45 am]

BILLING CODE 4151-17-P